DEPARTMENT OF DEFENSE

Office of the Secretary

[Docket ID DOD-2011-OS-0107]

Privacy Act of 1974; Systems of Records

AGENCY: National Security Agency/Central Security Service, Department of Defense (DoD).

ACTION: Notice to Amend a System of Records.

SUMMARY: The National Security Agency (NSA) is proposing to amend a system of records notice in its existing inventory of records systems subject to the Privacy Act of 1974 (5 U.S.C. 552a), as amended.

DATES: The changes will be effective on November 4, 2011 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, National Security Agency/Central Security Service, Freedom of Information Act and Privacy Act Office, 9800 Savage Road, Suite 6248, Ft. George G. Meade, MD 20755-6248, or by phone at (301) 688-6527.

SUPPLEMENTARY INFORMATION: The National Security Agency/Central Security System systems of records notices subject to the Privacy Act of 1974 (5 U.S.C. 552a), as amended, have been published in the Federal Register and are available from the address in FOR FURTHER INFORMATION CONTACT.

The specific changes to the records system being amended are set forth below followed by the notice, as amended, published in its entirety. The proposed amendment is not within the purview of subsection (r) of the Privacy Act of 1974 (5 U.S.C. 552a), as amended, which requires the submission of a new or altered system report.

Dated: September 30, 2011.
Aaron Siegel,
Alternate OSD Federal Register Liaison Officer, Department of Defense.

GNSA 17

System Name:

NSA/CSS Employee Assistance Service Case Records (December 30, 2008, 73 FR 79853).

Changes:

* * * * *

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

In any legal proceeding, where pertinent, to which DoD is a party before a court or administrative body (including, but not limited to the Equal Employment Opportunity Commission and Merit Systems Protection Board).

To any entity or individual under contract with NSA/CSS for the purpose of providing Employee Assistance Service related services.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The DoD `Blanket Routine Uses' that appear at the beginning of the NSA/CSS compilation of systems of records notices do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

* * * * *

Safeguards:

Delete entry and replace with “Employee Assistance Service facilities are limited-access facilities for security-cleared personnel and visitors only. Facilities may also be patrolled or secured by guarded pedestrian gates and checkpoints. Inside of Employee Assistance Service office spaces, paper/hard-copy records are stored in locked containers with limited access. Access to electronic records is limited and controlled by password.”

Retention and disposal:

Delete entry and replace with “Records of clients are retained locally (at Employee Assistance Service facilities/offices) and transferred to the NSA/CSS Records Center three years after case closure. Then, after five years, records are destroyed by pulping, burning, shredding, erasure or destruction of magnetic media.

Records of clients who retire or separate are retained locally (at Employee Assistance Service facilities/offices) and transferred to the NSA/CSS Records Center one year after date of separation or retirement. Then, after five years, records are destroyed by pulping, burning, shredding, erasure or destruction of magnetic media.”

* * * * *

Notification Procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, SSN, mailing address, and signature.”

Record Access Procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, SSN, mailing address, and signature.”

Contesting Record Procedures:

Delete entry and replace with “The NSA/CSS rules for contesting contents and appealing initial determinations are published at 32 CFR Part 322 or may be obtained by written request addressed to the National Security Agency/Central Security Service, Freedom of Information Act/Privacy Act Office, 9800 Savage Road, Suite 6248, Ft. George G. Meade, MD 20755-6248.”

* * * * *

Exemptions claimed for the system:

Within entry, replace “E.O. 12958” with “E.O. 13526.”

* * * * *

GNSA 17

System Name:

NSA/CSS Employee Assistance Service Case Records.

System Location:

National Security Agency/Central Security Agency, 9800 Savage Road, Ft. George G. Meade, MD 20755-6000.

Categories of individuals covered by the system:

Files consist of the individual's full name, Social Security Number (SSN), address and case records compiled by counselor and patient questionnaires, questionnaires completed by private counselors to whom clients are referred, the records of medical treatment and services, correspondence with personal physicians and other care providers, NSA/CSS Medical Center reports, results of psychological assessment testing and interviews, psychiatric examination results and related reports.

Authority for maintenance of the system:

5 U.S.C. Section 301, Departmental Regulations; 5 U.S.C. Section 7301, Presidential Regulations and 7361-7362, Employee Assistance Program; 5 U.S.C. Sections 7901-7904, Services to Employees; 42 U.S.C. Sections 290dd-1-290dd-2, Confidentiality of records; 5 CFR part 792, Federal Employees' Health and Counseling Programs; E.O. 12564, Drug Free Federal Workplace; E.O. 12196, Occupational safety and health programs for Federal employees, as amended and E.O. 9397 (SSN).

Purpose(s):

Used by counselors to facilitate and record treatment, referral and follow-up on behalf of employees.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

In any legal proceeding, where pertinent, to which DoD is a party before a court or administrative body (including, but not limited to the Equal Employment Opportunity Commission and Merit Systems Protection Board).

To any entity or individual under contract with NSA/CSS for the purpose of providing Employee Assistance Service related services.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The DoD `Blanket Routine Uses' that appear at the beginning of the NSA/CSS compilation of systems of records notices do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper in file folders and electronic storage media.

Retrievability:

By the individual's name and/or SSN.

Safeguards:

Employee Assistance Service facilities are limited-access facilities for security-cleared personnel and visitors only. Facilities may also be patrolled or secured by guarded pedestrian gates and checkpoints. Inside of Employee Assistance Service office spaces, paper/hard-copy records are stored in locked containers with limited access. Access to electronic records is limited and controlled by password.

Retention and disposal:

Records of clients are retained locally (at Employee Assistance Service facilities/offices) and transferred to the NSA/CSS Records Center three years after case closure. Then, after five years, records are destroyed by pulping, burning, shredding, erasure or destruction of magnetic media.

Records of clients who retire or separate are retained locally (at Employee Assistance Service facilities/offices) and transferred to the NSA/CSS Records Center one year after date of separation or retirement. Then, after five years, records are destroyed by pulping, burning, shredding, erasure or destruction of magnetic media.

System manager(s) and address:

Chief, Employee Assistance Services, National Security Agency/Central Security Service, 9800 Savage Road, Ft. George G. Meade, MD 20755-6000.

Notification Procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, SSN, mailing address, and signature.

Record Access Procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, SSN, mailing address, and signature.

Contesting Record Procedures:

The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.

Record source categories:

Primary sources are Employee Assistance Service counselors, the client and the client's family. Other sources include other counselors and other individuals within NSA/CSS.

Exemptions claimed for the system:

Portions of this system may be exempt under 5 U.S.C. 552a(k)(1), (k)(2), (k)(4) and (k)(5), as applicable.

Information specifically authorized to be classified under E.O. 13526, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if any individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

Records maintained solely for statistical research or program evaluation purposes and which are not used to make decisions on the rights, benefits, or entitlements of any individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source.

An exemption rule for this records system has been promulgated according to the requirements of 5 U.S.C. 553(b)(1), (2), and (3), (c) and (e) and published in 32 CFR part 322. For additional information, contact the system manager.

[FR Doc. 2011-25697 Filed 10-4-11; 8:45 am]

BILLING CODE 5001-06-P